DEPARTMENT OF HOMELAND SECURITY

U.S. Citizenship and Immigration Services

[CIS No. 2538-13; DHS Docket No. USCIS-2013-0006]

RIN 1615-ZB24

Extension of the Designation of Somalia for Temporary Protected Status

Correction

In notice document 2013-25969 beginning on page 65690 in the issue of Friday, November 1, 2013 make the following corrections:

1. On page 65691, in the first column, in the third paragraph, in the fourth and fifth lines “October 31, 2013 through December 30, 2013” should read “November 1, 2013 through December 31, 2013”.

2. On the same page, in the same column, in the fourth paragraph, in the last two lines “October 31, 2013 through December 30, 2013” should read “November 1, 2013 through December 31, 2013”.

[FR Doc. C1-2013-25969 Filed 11-5-13; 8:45 am]

BILLING CODE 1505-01-D